DEPARTMENT OF ENERGY

Federal Energy Regulatory Commission

Combined Notice of Filings

Take notice that the Commission has received the following Natural Gas Pipeline Rate and Refund Report filings:

Filings Instituting Proceedings

Docket Numbers: CP17-471-001.

Applicants: Paiute Pipeline Company.

Description: Amendment to Application of Paiute Pipeline Company's 2018 Expansion Project to Amend Certificate for Initial Rate.

Filed Date: 9/7/18.

Accession Number: 20180907-5097.

Comments Due: 5 p.m. ET 9/28/18.

Docket Numbers: RP10-1398-000.

Applicants: El Paso Natural Gas Company.

Description: Report Filing: Refund Report Amendment.

Filed Date: 9/17/18.

Accession Number: 20180917-5070.

Comments Due: 5 p.m. ET 10/1/18.

Docket Numbers: RP18-1187-000.

Applicants: Elba Express Company, L.L.C.

Description: § 4(d) Rate Filing: Interim Update of Fuel Retention Rates—2018 to be effective 11/1/2018.

Filed Date: 9/18/18.

Accession Number: 20180918-5008.

Comments Due: 5 p.m. ET 10/1/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 19, 2018.
Nathaniel J. Davis, Sr.,
Deputy Secretary.

[FR Doc. 2018-20890 Filed 9-25-18; 8:45 am]

BILLING CODE 6717-01-P